DEPARTMENT OF ENERGY

Federal Energy Regulatory Commission

[Project No. 14345-001]

Rock River Beach, Inc.; Notice of Application Tendered for Filing With the Commission and Soliciting Additional Study Requests

Take notice that the following hydroelectric application has been filed with the Commission and is available for public inspection.

a. Type of Application: Original Minor License.

b. Project No.: P-14345-001.

c. Date filed: November 23, 2012.

d. Applicant: Rock River Beach, Inc.

e. Name of Project: Rock River Beach Hydroelectric Project.

f. Location: On the Rock River, in the Town of Onota, Alger County, Michigan.

g. Filed Pursuant to: Federal Power Act 16 USC 791(a)-825(r).

h. Applicant Contact: Mary C. Edgar, 2617 Rockwood, East Lansing, MI 48823; or by telephone at (906) 892-8112.

i. FERC Contact: Aaron Liberty at (202) 502-6862 or by email at Aaron.Liberty@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 22, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The Rock River Beach Project consists of the following existing facilities: (1) A 33.6-foot-long by 5.5-foot-high, L-shaped gravity dam with a crest elevation of 606.95 feet NAVD 88; (2) a 5-acre reservoir with a total storage capacity of about 25 acre-feet at the normal reservoir water surface elevation of 606.95 feet NAVD 88; (3) a 30-foot-wide by 50-foot-long power canal; (4) an 18-foot by 24-foot wood-framed powerhouse housing a 3-kilowatt (kW) generating unit and a 5-kW generating unit for a total installed capacity of 8 kW; and (5) two, 220-volt, 0.5-mile-long transmission lines.

The applicant operates the project in a run-of-river mode (i.e., at any point in time, the combined outflow from the project's dam and powerhouse approximates all inflows to the project's reservoir). Diversion of river flow through the 50-foot-long power canal and to the powerhouse creates a 100-foot-long bypassed reach in the Rock River. Average annual generation at the project varies between 9,000 and 18,000 kilowatt-hours.

All of the existing project facilities are owned by the applicant. The applicant proposes no new facilities.

The proposed project is currently unlicensed and was found to be jurisdictional, because it is located on a Commerce Clause water and affects the interests of interstate commerce. See, 103 FERC ¶ 62,180 (2003).

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Michigan State Historic Preservation Officer (SHPO), as required by section 106 of the National Historic Preservation Act and the regulations of the Advisory Council on Historic Preservation, 36 CFR 800.4.

q. Procedural schedule: The application will be processed according to the following preliminary Hydro Licensing Schedule. Revisions to the schedule will be made as appropriate.

Issue Notice of Acceptance—February 2013

Issue Scoping Document 1 for comments—March 2013

Comments due on Scoping Document 1—April 2013

Issue Scoping Document 2—May 2013

Issue notice of ready for environmental analysis—July 2013

Issue Environmental Assessment (EA)—December 2013

Comments due on EA—January 2013

Dated: November 30, 2012.
Kimberly D. Bose,
Secretary.

[FR Doc. 2012-29802 Filed 12-10-12; 8:45 am]

BILLING CODE 6717-01-P